DEPARTMENT OF LABOR

Office of the Secretary

Submission for OMB Review; Comment Request

July 30, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Vanessa Reeves on 202-693-4124 (this is not a toll-free number) or e-Mail: reeves.vanessa2@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employment and Training Administration.

Type of Review: Revision of a currently approved collection.

Title: Trade Adjustment Assistance/NAFTA Financial Status/Request for Funds Report.

OMB Number: 1205-0275.

Affected Public: State, Local, or Tribal govt.

Frequency: Quarterly.

Type of Response: Reporting.

Number of Respondents: 52.

Information collection requirements | Annual responses | Average response time (hours) | Annual burden hours
TAA (ETA 9023) | 52 | 10.00 | 520
NAFTA (ETA 9023) | 52 | 10.00 | 520
Total |  |  | 1,040

Information collection requirements | Annual responses | Average response time (hours) | 269 burden hours
TAA (SF 269) | 52 | 2.50 | 130
NAFTA (SF 269) | 52 | 2.50 | 130
Total |  |  | 260

Total Annualized capital/startup costs: $0.

Total annual costs (operating/maintaining systems or purchasing services): $33,946.

Description: The Department of Labor requires financial data for the Trade Adjustment Assistance (TAA) program administered by States which is currently used from the Standard Form 424 and 424A. The required data are necessary in order to meet statutory requirements prescribed in Pub. L. 100-418, the Omnibus Trade and Competitiveness Act of 1988 and the North American Free Trade Agreement Implementation Act (Pub. L. 103-182) in accordance with section 250(a) Subchapter D, Chapter 2, Title II of the Trade Act of 1974.

Ira L. Mills,
Departmental Clearance Officer.

[FR Doc. 03-19847 Filed 8-4-03; 8:45 am]

BILLING CODE 4510-30-M